GENERAL SERVICES ADMINISTRATION

[PBS-N01]

Notice of Intent to Prepare an Environmental Assessment for the Transformation of Facilities and Infrastructure for the Non-Nuclear Production Activities Conducted at the National Nuclear Security Administration’s Kansas City Plant at Kansas City, Missouri

AGENCY: General Services Administration and National Nuclear Security Administration, Department of Energy.

ACTION: Notice of Intent.

SUMMARY: The General Services Administration (GSA), as the lead agency, and the National Nuclear Security Administration (NNSA), as a cooperating agency, intend to prepare an Environmental Assessment (EA) to evaluate the potential environmental impacts associated with the following project: Transformation of Facilities and Infrastructure for the Non-Nuclear Production Activities Conducted at the NNSA Kansas City Plant.

The proposed action is for GSA to procure the construction of new facilities to house NNSA's non-nuclear component procurement and manufacturing operations. The new facilities would be located approximately 8 miles south of the existing plant on a currently undeveloped site at the northwest corner of Missouri Highway 150 and Botts Road in Kansas City, Missouri. GSA would lease the facilities to NNSA, which would relocate its non-nuclear operations from the existing Kansas City Plant in the Bannister Federal Complex in Kansas City, Missouri, to the new facilities and conduct future operations in the new facilities. The relocation would involve moving approximately two-thirds of the existing capital and process equipment to the new facilities. Disposition activities of the existing NNSA facilities at the Kansas City Plant are not part of the current proposed action, and will be addressed in appropriate future environmental analyses. The Kansas City Plant is collocated on the Bannister Federal Complex with GSA and disposition activities will require coordination between both agencies.

The proposed facilities would cover more than 1 million square feet and provide over 2,000 surface parking spaces. The current facilities are approximately 3 million square feet. The proposed facilities would meet current and future production requirements for NNSA in a modern, cost effective, and flexible manner through reductions in the current facility footprint while significantly reducing operational, maintenance, security, and energy costs.

The EA also will evaluate the potential environmental impacts associated with alternatives to the proposed action, including:

• No Action, i.e., continuing NNSA’s non-nuclear operations in the existing Bannister Federal Complex facilities.

• Renovate the existing GSA office and warehouse space at the Bannister Federal Complex, relocate NNSA’s non-nuclear operations to the renovated facilities, and conduct future operations in the renovated facilities.

• Renovate the existing GSA office space, demolish existing GSA warehouse space, and construct and operate a new manufacturing facility on the GSA portion of the Bannister Federal Complex.

• Demolish existing GSA office and warehouse space. Construct and operate new office and manufacturing facilities on GSA’s portion of the Bannister Federal Complex.

Concurrent with the preparation of the Environmental Assessment, GSA and NNSA will determine the applicability of floodplain management and wetland protection requirements (10 CFR Part 1022) and will publish a notice of proposed floodplain and/or wetland action as appropriate.

SUPPLEMENTARY INFORMATION: Public Scoping Meetings: The GSA and NNSA will hold a public scoping meeting for the Environmental Assessment on the Transformation of Facilities and Infrastructure for the Non-Nuclear Production Activities Conducted at the National Nuclear Security Administration’s Kansas City Plant. The purpose of this Notice of Intent is to invite public participation at the scoping meeting and to request public comments on the scope of the EA, including the potential environmental impacts associated with the proposed action.

The public scoping meeting is scheduled as follows:

Wednesday, May 23rd, 2007

6:30 p.m. - 9:30 p.m.

Plaza Auditorium

Bannister Federal Complex

1500 East Bannister Road

Kansas City, MO 64131

Enter the Bannister Federal Complex by using Entrance 2, also marked Lydia Entrance, off Bannister Road. Enter the building through GSA Lobby 16. Please bring government-issued photo identification for entry into the building. Oral and written comments will be accepted at the public scoping meeting. In addition, GSA and NNSA will consider all written comments postmarked by May 30, 2007. For further information or to submit written comments please contact:

Carlos Salazar

GSA Regional NEPA Coordinator

1500 East Bannister Road, Room 2191 (6PTA)

Kansas City, MO 64131

(816) 823-2305

carlos.salazar@gsa.gov

Background: NNSA intends to adopt this EA for use as a basis for decisions regarding the further transformation and downsizing of non-nuclear production activities performed at its Kansas City Plant. This EA is being prepared pursuant to the National Environmental Policy Act of 1969 (NEPA), and regulations implementing NEPA issued by the Council on Environmental Quality (40 CFR Parts 1500-1508), GSA (ADM 1095.1F), and to the extent not inconsistent with ADM 1095.1F, DOE (10 CFR Part 1021).

NNSA’s non-nuclear operations include the procurement and manufacture of electrical, electronic, electromechanical, plastic, and mechanical components for the nuclear weapons program. Hazardous wastes are generated through general industrial processes and include acidic and alkaline liquids, solvents, oils and coolants. The Kansas City Plant is a non-nuclear site and does not have special nuclear materials, but operations do generate small quantities of low-level radioactive waste.

GSA and NNSA believe that the relocation of the non-nuclear production mission to another location outside of the Kansas City Metropolitan Area is not a reasonable alternative and do not intend to analyze it as an alternative in the present EA.

DOE completed a Nuclear Weapons Complex Reconfiguration (Complex-21) Study in January 1991, which identified significant cost savings that could be achieved by downsizing the nuclear weapons complex. On January 27, 1992, the Department issued an NOI (57 FR 3046) to prepare an environmental assessment (DOE/EA-0792) for the consolidation of non-nuclear production activities within the nuclear weapons complex. On September 14, 1993, DOE published a Finding of No Significant Impact (FONSI) regarding its proposal (58 FR 48043) to terminate non-nuclear production missions at the Mound Plant in Ohio, the Pinellas Plant in Florida, and the Rocky Flats Plant in Colorado, and consolidate the electrical and mechanical manufacturing functions at the Kansas City Plant.

DOE issued an NOI on June 6, 1995 (60 FR 31291), a final Stockpile Stewardship and Management PEIS on November 19, 1996 (61 FR 58871), and a ROD on December 26, 1996 (61 FR 68014) announcing its decision to transform the weapons production complex by further downsizing of the nuclear weapons complex. This decision included reducing non-nuclear component fabrication capacity at the Kansas City Plant. In these documents DOE evaluated alternatives for consolidation of non-nuclear manufacturing, storage and surveillance functions of the Nuclear Weapons Complex to the Kansas City Plant and reducing the capacity for non-nuclear component fabrication.

The proposed action would continue the consolidation and downsizing of non-nuclear activities at the Kansas City Plant begun in the early 1990s. The alternatives are constructed around the mission need to maintain the Kansas City Plant while downsizing for cost efficiency. Keeping these activities in the Kansas City area is consistent with NNSA’s broader proposed transformation of the U.S. nuclear weapons complex and is based on the previous NEPA analyses and decisions described above, and on an economic analysis that will be included in the Environmental Assessment. GSA and NNSA invite and will consider comments on this issue during the scoping process.

Separately, NNSA is preparing a Supplement to the Stockpile Stewardship and Management Programmatic Environmental Impact Statement—Complex 2030 (DOE/EIS-0236-S4) that evaluates alternatives for the continued transformation of the nuclear weapons complex. As explained in the NOI for that Supplemental PEIS (71 FR 61731; October 19, 2006), “NNSA believes that it is appropriate to separate the analyses of the transformation of non-nuclear production from the Supplemental PEIS because decisions regarding non-nuclear activities would neither significantly affect nor be affected by decisions regarding the transformation of nuclear production activities.”

Dated: April 23, 2007.
Carlos A Salazar,
Regional NEPA Coordinator,Portfolio Management Division (6PTA),GSA Public Buildings Service, Heartland Region.

[FR Doc. E7-8207 Filed 4-30-07; 8:45 am]

BILLING CODE 6820-CG-S